FEDERAL COMMUNICATIONS COMMISSION

[OIA Docket No. 24-30-FR-ID-201045]

Federal Advisory Committee, World Radiocommunication Conference Advisory Committee

AGENCY: Federal Communications Commission.

ACTION: Notice of renewal of the charter for the World Radiocommunication Conference Advisory Committee.

SUMMARY: In this document, the Federal Communications Commission (FCC or Commission) hereby announces that the charter of the World Radiocommunication Conference Advisory Committee (hereinafter Committee) has been renewed on January 31, 2024 for a two year period pursuant to the Federal Advisory Committee Act (FACA), following consultation with the Committee Management Secretariat, General Services Administration.

ADDRESSES: 45 L Street NE, Washington, DC 20554.

FOR FURTHER INFORMATION CONTACT: Gregory Baker, Designated Federal Official, at (202) 418-0611, WRC-27@fcc.gov, or Gregory.Baker@fcc.gov.

SUPPLEMENTARY INFORMATION: After consultation with the General Services Administration, the Commission renewed the charter on January 31, 2024, providing the Committee with authorization to operate for two years. The purpose of the Committee is to advise the Commission and to make recommendations for proposals for International Telecommunication Union (ITU) World Radiocommunication Conferences. The Committee will advise the Commission, and gather information and prepare technical analyses to support its advice. The Committee will report its findings to the Chairwoman of the Commission through the Committee's Designated Federal Official (DFO) or its Alternate DFO, upon request and in advance of the deadline established by the ITU for submission of proposals by administrations to WRC-27.

Advisory Committee

The Committee will be organized under, and will operate in accordance with, the provisions of the Federal Advisory Committee Act (FACA) (5 U.S.C. ch. 10). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairwoman of the FCC, unless its charter is renewed prior to the termination date. During the Committee's next term, it is anticipated that the Committee will meet in Washington, DC and/or virtually via video conference, at the discretion of the Commission, approximately four (4) times a year, with additional meetings scheduled as needed. The first meeting date and agenda topics will be described in a Public Notice issued and published in the Federal Register at least fifteen (15) days prior to the first meeting date. In addition, as needed, working groups or subcommittees will be established to facilitate the Committee's work between meetings of the full Committee. Meetings of the Committee will be fully accessible to individuals with disabilities.

(5 U.S.C. 1009(a)(2))

Federal Communications Commission.
Sarah Van Valzah,
Assistant Chief, Office of International Affairs.

[FR Doc. 2024-02619 Filed 2-7-24; 8:45 am]

BILLING CODE 6712-01-P